DEPARTMENT OF EDUCATION

Arbitration Panel Decisions Under the Randolph-Sheppard Act

AGENCY: Office of Special Education and Rehabilitative Services, Department of Education.

ACTION: Notice of arbitration decisions.

SUMMARY: The Department of Education (Department) is changing the way it notifies the public of arbitration panel decisions under the Randolph-Sheppard Act. The Department will no longer publish detailed synopses of each decision in the Federal Register. Rather, the Department will publish a quarterly notice in the Federal Register listing any decisions reached in the previous three months. The full text of the decisions will be available on the Department's Web site and by request. This notice lists decisions from the first two quarters of 2017 and available decisions from 2016.

FOR FURTHER INFORMATION CONTACT: Donald Brinson, U.S. Department of Education, 400 Maryland Avenue SW., Room 5045, Potomac Center Plaza, Washington, DC 20202-2800. Telephone: (202) 245-7310. If you use a telecommunications device for the deaf (TDD) or a text telephone (TTY), call the Federal Relay Service, toll-free, at 1-800-877-8339.

SUPPLEMENTARY INFORMATION: For the purpose of providing blind persons with remunerative employment, enlarging their economic opportunities, and stimulating greater efforts to make themselves self-supporting, the Randolph-Sheppard Act, 20 U.S.C. 107 et seq. (Act), authorizes blind persons to operate vending facilities on Federal property and provides them with a priority for doing so. The vending facilities include, among other things, cafeterias, snack bars, and automatic vending machines. The Department administers the Act and designates an agency in each State--the State Licensing Agency (SLA)—to license blind persons to operate vending facilities on Federal and other property in the State.

The Act requires arbitration of disputes between SLAs and blind vendors and between SLAs and Federal agencies before three-person panels convened by the Department whose decisions constitute final agency action. 20 U.S.C. 107d-1. The Act also makes these decisions matters of public record and requires their publication in the Federal Register. 20 U.S.C. 107d-2(c).

The Department's long-standing practice has been to publish in the Federal Register detailed synopses of arbitration decisions rather than their full text, which are sometimes quite lengthy. This saves publishing costs for the Department and time for interested members of the public. The Department has also provided copies of full arbitration panel decisions to members of the public upon request.

The time it took to draft these synopses resulted in a publishing backlog, however. Therefore, the Department has decided to change its practice in a way that will allow it to comply with the statutory requirement for publication and to provide the text of the arbitration panel decisions to the public more quickly and conveniently and at minimal cost to the Department.

The Department will now make the full text of arbitration panel decisions under the Act available on the Department's Web site, and we will add older, archived decisions as they become available in the proper format and are made accessible to individuals with disabilities under section 508 of the Rehabilitation Act. The decisions will be searchable by key terms and available for download in Adobe Acrobat (.pdf) format. The Department will continue to provide copies of decisions to members of the public upon request to the person listed under FOR FURTHER INFORMATION CONTACT.

Since the beginning of 2017, Randolph-Sheppard Arbitration panels have issued the following decisions.

Case name | Docket No. | Date | State
Kansas Dept. for Children and Families v. Department of the Army | RS 15-15 | 5/9/17 | Kansas.
Homan v. Maryland | RS 15-06 | 3/30/17 | Maryland.
Texas v. The Department of the Air Force | RS 16-09 | 2/28/17 | Texas.
Sheets v. California | RS 13-08 | 2/27/17 | California.
Florida Dept. of Education, Division of Blind Services v. Department of the Air Force | RS 15-13 | 2/1/17 | Florida.

The decisions are available at www.ed.gov/programs/rsarsp/arbitration-decisions.html.

At this same site, we have posted the following decisions from 2016.

Case name | Docket No. | Date | State
Oklahoma v. Fort Sill | RS 15-10 | 12/23/16 | Oklahoma.
South Carolina v. Dept. of the Army | RS 15-07 | 9/2/16 | South Carolina.
Georgia v. Fort Stewart | RS 13-09 | 1/11/16 | Georgia.

In the future, shortly after the end of every calendar quarter-March 31, June 30, September 30, and December 31-the Department will publish a notice in the Federal Register listing arbitration decisions issued in the previous three months and any older decisions when they become available and are made accessible under section 508. The notice will provide a link to the Web site where the decisions may be found and contact information for anyone, with or without access to the internet, who wishes to request a copy of a decision from the Department.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at www.federalregister.gov. Specifically, through the advanced search feature at this site, you can limit your search to documents published by the Department.

Dated: August 30, 2017.
Kimberly M. Richey,
Acting Assistant Secretary for Special Education and Rehabilitative Services.

[FR Doc. 2017-18751 Filed 9-1-17; 8:45 am]

BILLING CODE 4000-01-P